DEPARTMENT OF COMMERCE

International Trade Administration

A-570-846

Brake Rotors From the People's Republic of China: Final Results of Changed Circumstances Antidumping Duty Administrative Review

AGENCY: Import Administration, International Trade Administration, Department of Commerce.

SUMMARY: On September 20, 2005, the Department of Commerce (“the Department”) published the notice of preliminary results of its changed circumstances review examining whether Shandong Huanri Group Co., Ltd. (“Huanri Group”) is the successor-in-interest to Shandong Huanri Group General Company (“Huanri Group General”) for purposes of determining antidumping liability. See Brake Rotors From the People's Republic of China: Preliminary Results of Antidumping Duty Changed Circumstances Review, 70 FR 55107 (September 20, 2005) (“Preliminary Results”). In those Preliminary Results, the Department found that Huanri Group was the successor-in-interest to Huanri Group General.

However, after consideration of factual information evaluated in the Department's seventh administrative review of brake rotors from the People's Republic of China (PRC), the Department finds that although Huanri Group remains the successor-in-interest to Huanri Group General, information in the above-referenced administrative review has led the Department to deny Huanri Group General a separate rate. See Comment 7 of the Issues and Decision Memorandum for the Final Results in the 2003/2004 Administrative Review of Brake Rotors from the People's Republic of China, to Stephen J. Claeys, Acting Assistant Secretary for Import Administration, from Edward Yang, Senior Enforcement Coordinator / NME Unit, Import Administration (November 7, 2005) (“2003/2004 Issues and Decision Memorandum”), which is on file in the Central Records Unit, Room B-099 of the main Department building. We have now completed this changed circumstances review in accordance with 19 CFR 351.216 and 351.221(c)(3).

EFFECTIVE DATE: November 18, 2005.

FOR FURTHER INFORMATION CONTACT: Erin Begnal or Christopher Riker, AD/CVD Operations, Office 9, Import Administration, International Trade Administration, U.S. Department of Commerce, 14th Street and Constitution Avenue, NW, Washington, DC 20230; telephone: (202) 482-1442 or (202) 482-3441, respectively.

SUPPLEMENTARY INFORMATION:

Background

On December 13, 2004, the Department initiated a changed circumstances review of Huanri Group's claim that it is the successor-in-interest to Huanri Group General. See Brake Rotors from the People's Republic of China: Notice of Initiation of Changed Circumstances Review, 69 FR 75508 (December 17, 2004).

On September 20, 2005, the Department published the preliminary results of its changed circumstances review. See Preliminary Results. In making such a successor-in-interest determination, the Department examines several factors including, but not limited to, changes in: (1) management; (2) production facilities; (3) supplier relationships; and (4) customer base. See, e.g., Brass Sheet and Strip from Canada: Final Results of Antidumping Duty Administrative Review, 57 FR 20460 (May 13, 1992). While no single factor or combination of these factors will necessarily provide a dispositive indication of a successor-in-interest relationship, the Department will generally consider the new company to be the successor to the previous company if the new company's resulting operation is not materially dissimilar to that of its predecessor. See, e.g., Industrial Phosphoric Acid from Israel: Final Results of Changed Circumstances Review, 59 FR 6944 (February 14, 1994); Canadian Brass, and Fresh and Chilled Atlantic Salmon from Norway: Initiation and Preliminary Results of Changed Circumstances Antidumping Duty Administrative Review, 63 FR 50880 (September 23, 1998). Thus, if the evidence demonstrates that, with respect to the production and sale of the subject merchandise, the new company operates as the same business entity as the former company, the Department will accord the new company the same antidumping treatment as its predecessor.

In this case, data placed on the record and verified by the Department indicates that Huanri Group has the same management, production facilities, customer base, and supplier relationships as Huanri Group General.

Although the Department found Huanri Group was the successor-in-interest to Huanri Group General, the Department indicated in the Preliminary Results that it was currently conducting an administrative review regarding Huanri Group General. The Department preliminarily determined that Huanri Group General did not demonstrate that it was entitled to a separate rate under the Department's test. See Brake Rotors From the People's Republic of China: Preliminary Results and Partial Rescission of the Seventh Administrative Review and Preliminary Results of the Eleventh New Shipper Review, 70 FR 24382 (May 9, 2005). The Department informed the public that it would issue the final results of this changed circumstances review at the same time as the concurrent administrative review as both segments involve the company at issue, and that the separate rate issue will be decided in the context of the administrative review.

Scope of the Order

The products covered by the order are brake rotors made of gray cast iron, whether finished, semifinished, or unfinished, ranging in diameter from 8 to 16 inches (20.32 to 40.64 centimeters) and in weight from 8 to 45 pounds (3.63 to 20.41 kilograms). The size parameters (weight and dimension) of the brake rotors limit their use to the following types of motor vehicles: automobiles, all-terrain vehicles, vans, recreational vehicles under “one ton and a half,” and light trucks designated as “one ton and a half.”

Finished brake rotors are those that are ready for sale and installation without any further operations. Semi-finished rotors are those rotors which have undergone some drilling and on which the surface is not entirely smooth. Unfinished rotors are those which have undergone some grinding or turning.

These brake rotors are for motor vehicles and do not contain in the casting a logo of an original equipment manufacturer (“OEM”) which produces vehicles sold in the United States (e.g., General Motors, Ford, Chrysler, Honda, Toyota, and Volvo). Brake rotors covered in this review are not certified by OEM producers of vehicles sold in the United States. The scope also includes composite brake rotors that are made of gray cast iron which contain a steel plate but otherwise meet the above criteria. Excluded from the scope of the order are brake rotors made of gray cast iron, whether finished, semifinished, or unfinished, with a diameter less than 8 inches or greater than 16 inches (less than 20.32 centimeters or greater than 40.64 centimeters) and a weight less than 8 pounds or greater than 45 pounds (less than 3.63 kilograms or greater than 20.41 kilograms).

Brake rotors are classifiable under subheading 8708.39.5010 of the Harmonized Tariff Schedule of the United States (“HTSUS”). Although the HTSUS subheading is provided for convenience and customs purposes, the written description of the scope of the order is dispositive.

Successorship and Final Results

The Department received no case or rebuttal briefs by parties to this changed circumstances review. On the basis of the record developed in this proceeding, we continue to determine that Huanri Group is the successor-in-interest to Huanri Group General for purposes of determining antidumping duty liability. We note that in the seventh administrative review of brake rotors from the PRC, we concluded that Huanri Group General is not entitled to a separate rate for purposes of the final results of that proceeding. See 2003/2004 Issues and Decision Memorandum.

Therefore, effective as of the date of these final results, we will instruct CBP to assign Huanri Group the same antidumping duty cash-deposit rate applicable to Huanri Group General. The cash-deposit requirement will be effective upon publication of this notice of final results of changed circumstances review for all shipments of the subject merchandise entered, or withdrawn from warehouse, for consumption on or after the publication date.

This notice also serves as a final reminder to parties subject to administrative protective orders (“APOs”) of their responsibility concerning the disposition of proprietary information disclosed under APO in accordance with 19 CFR 351.305(a)(3). Failure to timely notify the Department in writing of the return/destruction of APO material is a sanctionable violation.

We are issuing and publishing this finding and notice in accordance with sections 751(b)(1) and 777(i)(1) of the Act and 19 CFR 351.221(c)(3) and 19 CFR 351.216.

Dated: November 7, 2005.
Stephen J. Claeys,
Acting Assistant Secretary for Import Administration.

[FR Doc. 05-22894 Filed 11-17-05; 8:45 am]

BILLING CODE 3510-DS-S